DEPARTMENT OF ENERGY

Office of Energy Efficiency and Renewable Energy

[Case No. CD-005]

Energy Conservation Program for Consumer Products: Decision and Order Granting a Waiver to Miele From the Department of Energy Residential Clothes Dryer Test Procedure (Case No. CD-005)

AGENCY: Office of Energy Efficiency and Renewable Energy, Department of Energy.

ACTION: Decision and order.

SUMMARY: The U.S. Department of Energy (DOE) gives notice of the decision and order (Case No. CD-005) that grants to Miele, Inc. (Miele) a waiver from the DOE clothes dryer test procedure. The waiver pertains to the specified models of condensing residential clothes dryers specified in Miele's petition. Condensing clothes dryers cannot be tested using the existing test procedure. Under today's decision and order, Miele shall be not be required to test and rate its specified models of residential condensing clothes dryer pursuant to the DOE test procedure.

DATES: This Decision and Order is effective March 30, 2011.

FOR FURTHER INFORMATION CONTACT: Dr. Michael G. Raymond, U.S. Department of Energy, Building Technologies Program, Mailstop EE-2J, 1000 Independence Avenue, SW., Washington, DC 20585-0121. Telephone: (202) 586-9611; E-mail: AS_Waiver_Requests@ee.doe.gov.

Ms. Elizabeth Kohl, U.S. Department of Energy, Office of General Counsel, Mail Stop GC-71, 1000 Independence Avenue, SW., Washington, DC 20585-0103, (202) 586-7796; E-mail: Elizabeth.Kohl@hq.doe.gov.

SUPPLEMENTARY INFORMATION: In accordance with Title 10 of the Code of Federal Regulations (10 CFR), Section 430.27(l), DOE gives notice of the issuance of its decision and order as set forth below. The decision and order grants Miele a waiver from the applicable residential clothes dryer test procedure at 10 CFR part 430 subpart B, appendix D, for the two models of condensing clothes dryers specified it its petition.

Issued in Washington, DC, on March 24, 2011.
Kathleen Hogan,
Deputy Assistant Secretary for Energy Efficiency, Office of Technology Development, Energy Efficiency and Renewable Energy.

Decision and Order

In the Matter of: Miele, Inc. (Case No. CD-005)

Background

Title III, Part B of the Energy Policy and Conservation Act of 1975 (EPCA), Pub. L. 94-163 (42 U.S.C. 6291-6309, as codified) established the Energy Conservation Program for Consumer Products Other Than Automobiles, a program covering most major household appliances, which includes the residential clothes washers that are the focus of this notice.¹ Part B includes definitions, test procedures, labeling provisions, energy conservation standards, and the authority to require information and reports from manufacturers. Further, Part B authorizes the Secretary of Energy to prescribe test procedures that are reasonably designed to produce results which measure energy efficiency, energy use, or estimated operating costs, and that are not unduly burdensome to conduct. (42 U.S.C. 6293(b)(3)) The test procedure for clothes dryers is contained in 10 CFR part 430, subpart B, appendix D.

¹ For editorial reasons, upon codification in the U.S. Code, Part B was re-designated Part A.

DOE's regulations contain provisions allowing a person to seek a waiver from the test procedure requirements for covered consumer products if at least one of the following conditions is met: (1) The petitioner's basic model contains one or more design characteristics that prevent testing according to the prescribed test procedure, or (2) when the prescribed test procedures may evaluate the basic model in a manner so unrepresentative of its true energy consumption characteristics as to provide materially inaccurate comparative data. 10 CFR 430.27(a)(1). Petitioners must include in their petition any alternate test procedures known to the petitioner to evaluate the basic model in a manner representative of its energy consumption characteristics. 10 CFR 430.27(b)(1)(iii).

The Assistant Secretary for Energy Efficiency and Renewable Energy (the Assistant Secretary) may grant a waiver subject to conditions, including adherence to alternate test procedures. 10 CFR 430.27(l). Waivers remain in effect pursuant to the provisions of 10 CFR 430.27(m).

The waiver process also allows any interested person who has submitted a petition for waiver to file an application for an interim waiver of the applicable test procedure requirements. 10 CFR 430.27(a)(2). The Assistant Secretary will grant an interim waiver request if it is determined that the applicant will experience economic hardship if the interim waiver is denied, if it appears likely that the petition for waiver will be granted, and/or the Assistant Secretary determines that it would be desirable for public policy reasons to grant immediate relief pending a determination on the petition for waiver. 10 CFR 430.27(g).

On November 3, 2010, Miele filed a petition for waiver from the test procedures applicable to its T8000 and T9000 product models of condensing clothes dryer. The applicable test procedures are contained in 10 CFR part 430, subpart B, appendix D-Uniform Test Method for Measuring the Energy Consumption of Clothes Dryers. Miele seeks a waiver from the applicable test procedures for its T8000 and T9000 basic product models because, Miele asserts, design characteristics of this model prevent testing according to the currently prescribed test procedures. DOE previously granted Miele a waiver from test procedures for two similar condenser clothes dryer models (T1565CA and T1570C). (60 FR 9330, Feb. 17, 1995). Miele claims that its condenser clothes dryers cannot be tested pursuant to the DOE procedure and requests that the same waiver granted to Miele in 1995 be granted for Miele's T8000 and T9000 models.

In support of its petition, Miele claims that the current clothes dryer test procedures apply only to vented clothes dryers because the test procedures require the use of an exhaust restrictor on the exhaust port of the clothes dryer during testing. Because condenser clothes dryers operate by blowing air through the wet clothes, condensing the water vapor in the airstream, and pumping the collected water into either a drain line or an in-unit container, these products do not use an exhaust port like a vented dryer does. Miele plans to market a condensing clothes dryer for situations in which a conventional vented clothes dryer cannot be used, such as high-rise apartments and condominiums, where construction does not permit the use of external venting.

Assertions and Determinations

Miele's Petition for Waiver

On November 3, 2010, Miele filed a petition for waiver from the test procedure applicable to residential clothes dryers set forth in 10 CFR part 430, subpart B, appendix D for particular models of condensing clothes dryer. On February 1, 2011, DOE published Miele's petition for waiver and granted Miele an interim waiver from the current test procedure. 76 FR 5567. DOE did not receive any comments on the Miele petition.

DOE previously granted Miele a waiver from test procedures for condensing clothes dryers after determining that the company's condenser clothes dryers could not be tested according to the clothes dryer test procedure because of the lack of an exhaust port for mounting the required exhaust restrictor, which is an element of the test procedure. 60 FR 9332 (Feb. 17, 1995). Subsequently, DOE granted similar waivers to LG (73 FR 66641, Nov. 10, 2008), Whirlpool (74 FR 66334, December 15, 2009), and GE (75 FR 13122, Mar. 18, 2010).

Therefore, for the reasons discussed above, and in light of the previous waivers to Miele, LG, Whirlpool and GE, DOE grants Miele's petition for waiver from testing of its T8000 and T9000 condenser clothes dryers.

Consultations With Other Agencies

DOE consulted with the Federal Trade Commission (FTC) staff concerning the Miele petition for waiver. The FTC staff did not have any objections to granting a waiver to Miele.

Conclusion

After careful consideration of all the material that was submitted by Miele and consultation with the FTC staff, it is ordered that:

(1) The petition for waiver submitted by Miele, Inc. (Case No. CD-005) is hereby granted as set forth in the paragraphs below.

(2) Miele shall not be required to test or rate its T8000 and T9000 condensing clothes dryer models on the basis of the test procedures at 10 CFR part 430, subpart B, appendix D.

(3) This waiver shall remain in effect from the date this decision and order consistent with the provisions of 10 CFR 430.27(m).

(4) This waiver is issued on the condition that the statements, representations, and documentary materials provided by the petitioner are valid. DOE may revoke or modify this waiver at any time if it determines the factual basis underlying the petition for waiver is incorrect.

(5) This waiver applies to only those models specifically set out in Miele's petition. Miele may submit a new or amended petition for waiver and request for grant of interim waiver, as appropriate, for additional models of clothes dryers for which it seeks a waiver from the DOE test procedure.

Issued in Washington, DC, on March 24, 2011.

Kathleen Hogan,

Deputy Assistant Secretary for Energy Efficiency, Office of Technology Development, Energy Efficiency and Renewable Energy.

[FR Doc. 2011-7449 Filed 3-29-11; 8:45 am]

BILLING CODE 6450-01-P